DEPARTMENT OF THE INTERIOR

National Park Service

[NPS-WASO-NAGPRA-NPS0032107; PPWOCRADN0-PCU00RP14.R50000]

Notice of Inventory Completion: Appalachian State University, Boone, NC

AGENCY: National Park Service, Interior.

ACTION: Notice.

SUMMARY: Appalachian State University has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains and associated funerary objects should submit a written request to Appalachian State University. If no additional requestors come forward, transfer of control of the human remains to the Indian Tribes or Native Hawaiian organizations stated in this notice may proceed.

DATES: Lineal descendants or representatives of any Indian Tribe or Native Hawaiian organization not identified in this notice that wish to request transfer of control of these human remains should submit a written request with information in support of the request to Appalachian State University at the address in this notice by July 26, 2021.

FOR FURTHER INFORMATION CONTACT: Dr. Alice Wright, Associate Professor, Appalachian State University, Department of Anthropology, ASU Box 32016, 322 Anne Belk Hall, Boone, NC 28608, telephone (828) 262-6384, email wrightap2@appstate.edu.

SUPPLEMENTARY INFORMATION: Notice is here given in accordance with the Native American Graves Protection and Repatriation Act (NAGPRA), 25 U.S.C. 3003, of the completion of an inventory of human remains under the control of Appalachian State University, Boone, NC. The human remains were removed from an unknown location in Mississippi.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Appalachian State University professional staff in consultation with representatives of the Jena Band of Choctaw Indians; The Chickasaw Nation; and The Choctaw Nation of Oklahoma (hereafter referred to as “The Consulted Tribes”).

History and Description of the Remains

Sometime before 1995, human remains representing, at minimum, one individual was removed from the State of Mississippi. In the late 1990s, a student at Appalachian State University acquired the human remains through his landlord and donated them to the University. The landlord (now deceased) stated that he “got it in Mississippi.” No further information about these human remains is available. No known individual was identified. No associated funerary objects are present.

Determinations Made by Appalachian State University

Officials of Appalachian State University have determined that:

• Pursuant to 25 U.S.C. 3001(9), the human remains described in this notice represent the physical remains of one individual of Native American ancestry.

• Pursuant to 25 U.S.C. 3001(2), there is a relationship of shared group identity that can be reasonably traced between the Native American human remains and the Alabama-Coushatta Tribe of Texas [previously listed as Alabama-Coushatta Tribes of Texas]; Alabama-Quassarte Tribal Town; Coushatta Tribe of Louisiana; Eastern Band of Cherokee Indians; Jena Band of Choctaw Indians; Miami Tribe of Oklahoma; Mississippi Band of Choctaw Indians; Quapaw Nation [previously listed as The Quapaw Tribe of Indians]; The Chickasaw Nation; The Choctaw Nation of Oklahoma; The Muscogee (Creek) Nation; and The Osage Nation [previously listed as Osage Tribe] (hereafter referred to as “The Tribes”).

Additional Requestors and Disposition

Lineal descendants or representatives of any Indian Tribe or Native Hawaiian organization not identified in this notice that wish to request transfer of control of these human remains should submit a written request with information in support of the request to Dr. Alice Wright, Associate Professor, Appalachian State University, Department of Anthropology, ASU Box 32016, 322 Anne Belk Hall, Boone, NC 28608, telephone (828) 262-6384, email wrightap2@appstate.edu, by July 26, 2021. After that date, if no additional requestors have come forward, transfer of control of the human remains to The Tribes may proceed.

Appalachian State University is responsible for notifying The Tribes that this notice has been published.

Dated: June 9, 2021.
Melanie O'Brien,
Manager, National NAGPRA Program.

[FR Doc. 2021-13512 Filed 6-24-21; 8:45 am]

BILLING CODE 4312-52-P